DEPARTMENT OF THE INTERIOR

Bureau of Indian Affairs

[212A2100DD/AAKC001030/A0A51010.999900]

Indian School Equalization Program (ISEP) and ISEP Student Transportation Funding Formulas

AGENCY: Bureau of Indian Affairs, Interior.

ACTION: Notice of Tribal listening session and public meetings.

SUMMARY: The Bureau of Indian Education (BIE) will conduct Tribal listening sessions to obtain oral and written comments on the Indian School Equalization Program (ISEP) and Student Transportation funding formulas to inform formal tribal consultation planned for the summer.

DATES: Comments must be received on or before June 30, 2021 at 11:59 p.m. ET. See the SUPPLEMENTARY INFORMATION section of this notice for information on dates and locations of listening sessions.

ADDRESSES: Send comments to: consultation@bia.gov, or by mail to: Bureau of Indian Education, Emmalani Longenecker, Indian School Rd. NW, Building 2—Suite 352 Albuquerque, NM 87104.

FOR FURTHER INFORMATION CONTACT: Emmalani Longenecker, Special Assistant to the Deputy Bureau Director of School Operations, Bureau of Indian Education; phone (505) 563-5368 or Emmalani.Longenecker@bie.edu.

SUPPLEMENTARY INFORMATION: The purpose of the listening sessions is to provide Indian Tribes, school boards, parents, Indian organizations, and other interested parties with an opportunity to comment on the current Transportation and ISEP formulas and the respective distribution methodologies. After the listening sessions, the BIE will schedule formal Tribal consultation to discuss specific recommendations for updating the ISEP and transportation regulations, including the formula and funding distribution methodology. The sessions/meetings will be held:

• Tuesday, April 20, 2021, 2 p.m.-5 p.m. Eastern Time

• Thursday, April 22, 2021, 2 p.m.-5 p.m. Eastern Time

Please register in advance using this link: https://www.zoomgov.com/meeting/register/vJItcOCtrDssHoGT0RoUDpgQJstNrNZnhZM.

Once registered, you will receive a confirmation email containing information about joining the meeting.

Public Comment Availability

Written comments, including names, street addresses of respondents, will be available for public review at the location listed under the ADDRESSES section of this notice, during regular business hours, 8 a.m. to 4:30 p.m., Monday through Friday, except Federal holidays. Before including your address, telephone number, email address, or other personal identifying information in your comment, be aware that your entire comment—including your personal identifying information—may be made publicly available at any time. While you can ask us in your comment to withhold your personal identifiable information from public view, we cannot guarantee that we will be able to do so.

Bryan Newland,
Principal Deputy Assistant Secretary—Indian Affairs.

[FR Doc. 2021-06923 Filed 4-2-21; 8:45 am]

BILLING CODE 4337-15-P